OFFICE OF PERSONNEL MANAGEMENT

5 CFR Part 550

RIN 3206-AL52

Compensatory Time Off for Travel; Prevailing Rate (Wage) Employees

AGENCY: U.S. Office of Personnel Management.

ACTION: Final Rule.

SUMMARY: The U.S. Office of Personnel Management is issuing final regulations to implement a provision of the National Defense Authorization Act for Fiscal Year 2008 permitting prevailing rate (wage) employees to earn compensatory time off for time spent in a travel status away from the official duty station when such time is not otherwise compensable.

DATES: The regulations are effective May 28, 2008.

FOR FURTHER INFORMATION CONTACT: Gene Holson by telephone at (202) 606-2858; by fax at (202) 606-0824; or by email at pay-performance-policy@opm.gov.

SUPPLEMENTARY INFORMATION: The U.S. Office of Personnel Management (OPM) is issuing final regulations to implement section 1111 of the National Defense Authorization Act for Fiscal Year 2008 (Pub. L. 110-181, January 28, 2008), hereafter referred to as “the Act.” Section 1111 of the Act amends subchapter V of chapter 55 of title 5, United States Code, to cover prevailing rate (wage) employees under the compensatory time off for travel provision in 5 U.S.C. 5550b. Subject to the conditions specified in 5 U.S.C. 5550b and 5 CFR part 550, subpart N, a covered employee is entitled to earn, on an hour-for-hour basis, compensatory time off for time spent in a travel status away from the employee's official duty station when the travel time is not otherwise compensable.

Because the section of law authorizing compensatory time off for travel is in 5 U.S.C. chapter 55, subchapter V, the provision applies to an “employee” as defined in 5 U.S.C. 5541(2), who is employed in an “Executive agency,” as defined in 5 U.S.C. 105. Prevailing rate (wage) employees previously were excluded from the compensatory time off for travel provision by 5 U.S.C. 5541(2)(xi). However, the Act amends 5 U.S.C. 5541(2) and 5 U.S.C. 5550b to permit prevailing rate (wage) employees to earn compensatory time off for travel under 5 U.S.C. 5550b and 5 CFR part 550, subpart N.

Effective Date

Section 1111(c) of the Act provides that the amendment takes effect on the earlier of (1) the effective date of implementing regulations or (2) the 90th day after the date of the law's enactment, which is April 27, 2008. These regulations are effective on April 27, 2008 and apply prospectively from that date. Accordingly, we have revised § 550.1402 to provide that prevailing rate (wage) employees are covered by 5 CFR part 550, subpart N, effective April 27, 2008. Agencies must credit prevailing rate (wage) employees who perform officially authorized travel on or after the effective date with any compensatory time off for travel to which they are entitled under the law and regulations. If an employee is on an extended period of officially authorized travel on the effective date, only the qualifying travel hours occurring on or after the effective date are creditable for the purpose of earning compensatory time off for travel.

Authority Citation

Subpart N of part 550 of title 5, Code of Federal Regulations, previously did not include an authority citation. Therefore, we have added 5 U.S.C. 5548(a) as the authority citation for 5 CFR part 550, subpart N.

Waiver of Notice of Proposed Rulemaking

Pursuant to section 553(b)(B) of title 5 of the United States Code, I find that good cause exists for waiving the general notice of proposed rulemaking. Also, pursuant to 5 U.S.C. 553(d)(3), I find that good cause exists for making this rule effective in less than 30 days. These regulations implement a provision of Public Law 110-181 that takes effect on the earlier of (1) the effective date of implementing regulations or (2) the 90th day after the date of the law's enactment. The statutory change is unambiguous and does not require interpretation, since it simply extends coverage under a particular provision of law to an additional category of employees. These regulations merely incorporate the statutory change. Thus, a notice of proposed rulemaking and a delayed effective date is unnecessary. This waiver will facilitate timely implementation of the law as intended by Congress.

E.O. 12866, Regulatory Review

The Office of Management and Budget has reviewed this rule in accordance with E.O. 12866.

Regulatory Flexibility Act

I certify that these regulations will not have a significant economic impact on a substantial number of small entities because they will apply only to Federal agencies and employees.

List of Subjects in 5 CFR Part 550

Administrative practice and procedure, Claims, Government employees, Wages.

U.S. Office of Personnel Management.
Linda M. Springer,
Director.

Accordingly, OPM is amending 5 CFR part 550 as follows:

PART 550—PAY ADMINISTRATION (GENERAL)

Subpart N—Compensatory Time Off for Travel

1. An authority citation for subpart N of part 550 is added to read as follows:

Authority: 5 U.S.C. 5548(a).

2. Section 550.1402 is revised to read as follows:

§ 550.1402 Coverage.

This subpart applies to an employee as defined in 5 U.S.C. 5541(2) who is employed by an agency. In accordance with section 1111 of Public Law 110-181, an employee whose pay is fixed and adjusted from time to time in accordance with prevailing rates under subchapter IV of chapter 53 of title 5, United States Code, or by a wage board or similar administrative authority serving the same purpose, is covered by this subpart effective April 27, 2008.

[FR Doc. E8-11839 Filed 5-27-08; 8:45 am]

BILLING CODE 6325-39-P